DEPARTMENT OF TRANSPORTATION

National Highway Traffic Safety Administration

[Docket No. NHTSA—2013-0131]

Amendments to Highway Safety Program Guidelines

AGENCY: National Highway Traffic Safety Administration (NHTSA), Department of Transportation.

ACTION: Revisions to highway safety program guidelines.

SUMMARY: Section 402 of title 23 of the United States Code requires the Secretary of Transportation to promulgate uniform guidelines for State highway safety programs.

This notice revises five of the existing guidelines and adds a new one to reflect program methodologies and approaches that have proven to be successful and are based on sound science and program administration. The revised guidelines are Guideline No. 1 Periodic Motor Vehicle Inspection, Guideline No. 2 Motor Vehicle Registration, Guideline No. 6 Codes and Laws, Guideline No. 16 Management of Highway Incidents (formerly Debris Hazard Control and Cleanup), and Guideline No. 18 Motor Vehicle Crash Investigation and Incident Reporting (formerly Accident Investigation and Reporting). The new guideline is No. 13 Older Driver Safety.

DATES: The revised guidelines become effective as of the date of publication of this document in the Federal Register.

FOR FURTHER INFORMATION CONTACT: Jeff Michael, Associate Administrator, Office of Research and Program Development, National Highway Traffic Safety Administration, 1200 New Jersey Avenue SE., Washington, DC 20590; Telephone: 202-366-1755; Fax: 202-366-7721.

SUPPLEMENTARY INFORMATION:

I. Background

Section 402 of title 23 of the United States Code requires the Secretary of Transportation to promulgate uniform guidelines for State highway safety programs. As the highway safety environment changes, it is necessary for NHTSA to update the guidelines to provide current information on effective program content for States to use in developing and assessing their traffic safety programs. In a Notice published in the Federal Register on June 20, 2012 (77 FR 37093), the agency requested comments on the proposed revisions to the following guidelines: Guideline No. 1 Periodic Motor Vehicle Inspection, Guideline No. 2 Motor Vehicle Registration, Guideline No. 6 Codes and Laws, Guideline No. 16 Management of Highway Incidents (formerly Debris Hazard Control and Cleanup), and Guideline No. 18 Motor Vehicle Crash Investigation and Incident Reporting (formerly Accident Investigation and Reporting). A new guideline, No. 13 Older Driver Safety, was also developed to help States develop plans to address the particular needs of older drivers and address the emerging challenges from the increasing population of older drivers in their States. Because of the unique issues related to older driver safety, this guideline also includes recommendations related to Medical Providers and Social Services Providers. Overall, these revisions and additions will provide up-to-date and current guidance to States. NHTSA will update the guidelines periodically to address new issues and to emphasize program methodology and approaches that have proven to be effective in these program areas.

Each of the revised guidelines reflects the best available science and the real-world experience of NHTSA and the States in developing and managing traffic safety program content. The guidelines offer direction to States in formulating their highway safety plans for highway safety efforts supported with Section 402 grant funds as well as safety activities funded from other sources. The guidelines provide a framework for developing a balanced highway safety program and serve as a tool with which States can assess the effectiveness of their own programs. NHTSA encourages States to use these guidelines and build upon them to optimize the effectiveness of highway safety programs conducted at the State and local levels.

These guidelines emphasize areas of nationwide concern and highlight effective countermeasures. As each guideline is updated or created, it will include a date representing the date of its revision or development. All the highway safety guidelines are available on the NHTSA Web site at http://www.nhtsa.gov/nhtsa/whatsup/tea21/tea21programs/pages/.

Further, the intended use of these guidelines is identical to the existing guidelines—to provide broad guidance to the States on best practices in each highway safety program area. Countermeasures are more thoroughly discussed in the National Cooperative Highway Research Program (NCHRP) series 500 guidance documents and in the NHTSA publication Countermeasures that Work; these tools provide detail to fill in the framework. All of these documents, along with additional behavioral research conducted by non-Federal sources, add to the robustness of available highway safety literature. NHTSA recognizes that individual State needs and programs differ and acknowledges that the weight placed on certain guidelines or individual recommendations in the guidelines may vary from State to State.

II. Comments

The agency received comments in response to the notice from Advocates for Highway & Auto Safety (Advocates), the American Automobile Association (AAA), American Traffic Safety Services Association (ATSSA), Automotive Aftermarket Industry Association (AAIA), Automotive Education & Policy Institute (AEPI), California Chiefs of Police Traffic Safety Committee (CPCA), California Highway Patrol (CHP), Commercial Vehicle Safety Alliance (CVSA), the Governors Highway Safety Association (GHSA), Pat Hoag of R&R Trucking, Motor & Equipment Manufacturers Association (MEMA), Montana Department of Transportation (MDT), National Automobile Dealers Association (NADA), Michael Paris of the NY State Office for the Aging (NYSOA), National Transportation Safety Board (NTSB), Rubber Manufacturers Association/Tire Industry Association (RMA/TIA), Carl Soderstrom of the Maryland Motor Vehicle Administration (MD MVA), James Stowe, and the University of North Carolina Highway Safety Research Center (UNC).

The majority of guideline-specific comments received focused on Guidelines No. 1 Periodic Motor Vehicle Inspection and No. 13 Older Driver Safety. The agency also received three comments related to Guideline No. 2 Motor Vehicle Registration, two comments related to Guideline No. 6 Codes and Laws, three comments related to Guideline No. 16 Management of Highway Incidents (formerly Debris Hazard Control and Cleanup), and four comments related to Guideline No. 18 Motor Vehicle Crash Investigation and Incident Reporting (formerly Accident Investigation and Reporting).

A. Comments in General

A number of commenters had suggestions for improving the guidelines while a few expressed concern for some of the revisions that were made. GHSA commended the agency for its efforts to update several guidelines and develop the new Older Driver Safety Guideline. However GHSA also suggested that NHTSA should work with Congressional authorizing committees to revise the language on the national guidelines in future authorizations to eliminate guidelines in areas which no longer receive funds through the Section 402 grant program. That comment goes beyond the scope of this Federal Register Notice, and did not impact these guidelines.

The agency also received a number of other comments outside the scope of the proposed revisions to the highway safety program guidelines. Some of these comments related to topics that go beyond NHTSA's jurisdiction, such as regulating vehicle repair and automotive technicians. Some comments related to other NHTSA safety programs, but that were not directly addressed in the original Federal Register Notice. Because these comments do not fall within the subject area of the revised guidelines, the agency has not addressed them in this action. Additional comments related to particular highway safety program guidelines are discussed below in II(B) under the appropriate heading.

B. Comments Regarding Guideline No. 1—Periodic Motor Vehicle Inspection (PMVI)

A number of commenters, including Advocates, AAIA, MEMA, and RMA/TIA believe PMVI should be performed annually and disagree with NHTSA's recommendation for periodic inspection. They expressed concern that the revised language could impact the effectiveness of the guideline if States moved from a required annual inspection to longer intervals between inspections. NHTSA disagrees and believes each State should determine the optimal time between inspections based on evidence of the effectiveness of that State's particular program. Nothing in the revised guideline would prevent a State from maintaining an annual inspection process. NHTSA believes the research on the general effectiveness of PMVI is inconclusive, and does not warrant a more prescriptive approach. Advocates and MEMA cited a 2009 Pennsylvania Department of Transportation report and a Missouri State study that found that PMVI programs can provide a safety benefit. But a major study from Norway (Fosser 1992) found no benefit. This study involved 204,000 vehicles that were randomly assigned to three different experimental conditions: 46,000 cars were inspected annually during a period of three years; 46,000 cars were inspected once during three years; and 112,000 cars were not inspected at all. The number of crashes was recorded for all vehicles over a period of four years. There was no discernible difference in crash outcomes between the groups, however the report did find that the technical condition of inspected vehicles (i.e., head lights, tail lights, tires) improved compared to those not inspected. A recent follow-up study in Norway (Christensen 2007) confirmed these results: inspections are effective in improving the technical or physical condition of vehicles, but found no evidence that periodic inspections had a measurable effect on reducing crash rates. Given these significant differences between various studies, there is not enough evidence at this time to make a more definitive assessment on the effectiveness of PMVI in reducing crashes.

There is also no consensus on how often PMVI should be performed to be the most beneficial and cost effective. Many other countries allow periods longer than one year between required inspections yet do not seem to suffer any negative safety effects. For example, in the European Union, many countries follow a “4-2-2” standard (96/96/EC Directive on Roadworthiness and Inspections). According to this schedule, all passenger vehicles are required to be inspected every second year, starting the fourth year after the car was first registered. A few European countries require more frequent inspections for passenger vehicles, such as every two to three years. Some countries also add additional requirements for older vehicles, such as annual inspections for vehicles over 8 years old.

It's also important to point out that there can be different schedules for different types of vehicles. While passenger vehicles may not be required to have annual inspections, States may require other vehicles, such as large trucks, buses or other commercial vehicles, to have one.

In addition to the age of the vehicle as a relevant factor of vehicle inspection, another issue that comes up frequently in the research as an issue on PMVI is tire maintenance. In a NHTSA study published in 2008, tire/wheel failure was found to be the leading factor where the critical reason for the crash was attributed to the vehicle (Motor Vehicle Crash Causation Study 2008). Tire/wheel deficiency was cited in 4.9% of these crashes. The next most common vehicle-related factor was braking systems at 0.6% of crashes. Maintaining proper tire pressure and adequate braking capability are important parts of keeping vehicles safe. As a result of tire-related safety concerns, NHTSA established two new Federal Motor Vehicle Safety Standards: FMVSS No. 138 requires a tire pressure monitoring system (TPMS) on all new light vehicles and FMVSS No. 139 updated the performance requirements for passenger car and light-truck radial tires. Both of these rules became effective on September 1, 2007. The effects of these rules are expected to continue to increase with time as market penetration increases. They also reduce any potential benefit of a PMVI assessment of tires. Moreover, NHTSA recommends that vehicle owners should inspect their tires on a monthly basis for wear and tear as well as underinflation, rather than rely on a PMVI check-up once every year or two.

Advocates, AEPI, MEMA and NADA expressed concern with a best practices model for implementing PMVI programs, and about the need for updating 49 CFR 570, which establish criteria for the inspection of motor vehicles by State inspection systems. NHTSA agrees with these comments, and is currently in process of updating 49 CFR 570. The agency expects to have the update completed in 2013.

AEPI also expressed concern over the influence that auto insurance companies may have in regard to the selection of parts and methods used in the repair of motor vehicles. Using “remanufactured aluminum alloy wheels,” as an example, AEIP noted that decisions on the type of equipment used in repairs as well as the installation process may not meet the original vehicle specifications, and could lead to additional safety risks. This comment falls outside the scope of NHTSA's PMVI guideline. State-level agencies that have oversight over consumer product safety may be better able to address this issue.

Advocates also noted that the recently enacted Moving Ahead for Progress in the 21st Century (MAP-21) highway transportation authorization included a provision regarding greater oversight for State annual inspection programs for commercial motor vehicles, and that NHTSA should make similar efforts to encourage States in the area of periodic safety inspections for registered vehicles. The MAP-21 provision requires that, “Not later than 3 years after the date of enactment of this Act, the Secretary of Transportation shall complete a rulemaking proceeding to consider requiring States to establish a program for annual inspections of commercial motor vehicles.” The Federal Motor Carrier Safety Administration (FMCSA), an agency of the U.S. DOT, will issue a rulemaking notice on this topic within the required time frame. Inspection programs for commercial vehicles play an important role in keeping these vehicles safe on the road. But not all safety regulations that apply to commercial motor vehicles have the same potential safety benefit for passenger vehicles due to differences in vehicle design and how they are utilized. For example, inspections for commercial vehicles also include checking commercial driver licensing and hours of service records. Thus, these differences between commercial vehicles, such as motorcoaches, and passenger vehicles are significant enough to merit independent assessments of the costs and benefits of inspection programs.

CVSA recognized that PMVI programs focus mainly on light duty passenger vehicles, although the guideline specifically applies to “all registered vehicles.” Their recommendation is to include all medium- and heavy-duty motor vehicles (including commercial and non-commercial vehicles.) They also acknowledge the value of roadside inspections but believe those inspections are not on par with annual or periodic motor vehicle inspections. CVSA recommends NHTSA establish three separate and distinct types of inspections specifically for commercial motor vehicles to include annual/periodic and preventative maintenance requirements; driver trip requirements; and, roadside inspection programs. FMCSA provides guidance to States on commercial vehicle inspection programs; therefore this comment falls outside the scope of this guideline. However, these comments will be forwarded to FMCSA for consideration in their review of the annual inspection process of commercial motor vehicles.

RMA/TIA supports stringent tire inspection and suggested that the federal government should explore whether incentive grants could be made to States with programs or consider withholding federal highway funds from States without inspection programs to spur action. The agency disagrees with this comment. Tires are already addressed in 49 CFR Part 570.9 which provides the criteria for inspections, as noted earlier, and given the new TPMS requirement of FMVSS No. 138, additional actions are not recommended at this time.

Finally, the MDT believes the evaluation of this program would add to the current workload of the State Highway Traffic Safety Office (SHTSO) and would cause financial hardship. While different parts of the program are housed in different State agencies, it is not an undue hardship for those agencies to work together within the State to obtain the available information necessary to conduct the evaluation using whatever data sources are available. Overall, no revisions were made to this guideline in response to the comments.

C. Comments Regarding Guideline No. 2—Motor Vehicle Registration

NHTSA received three specific comments regarding this guideline. MDT commented that the guideline would require that MDT's State Highway Safety Traffic Office be provided with an evaluation summary of this program. NHTSA agrees with this observation. NADA offered a suggestion that motor vehicle registration programs notify registered owners of any outstanding and remedied safety recall and/or condition vehicle re-registration on recall remedy performance. NHTSA appreciates recommendations on how to expand the reach of recall information, and likes the general concept of enlisting States' help in flagging unremedied recalls for consumers. However vehicle registration programs vary by State and some registrations are valid for multiple years. If a recall was issued shortly after vehicle registration, multiple years may elapse before the next required registration and receipt of recall information under their proposed scenario, making that late received information less timely. NHTSA also does not favor recommending that States make the recall remedy a condition of registration and/or completing respective inspections, because such action would overlap with issues of State law and enforcement. Up-to-date information is available at NHTSA's www.safercar.gov at no cost to the consumer. Recall remedy information is also available for consumers on vehicle history report Web sites for a nominal fee. To retool existing State vehicle registration systems to provide this information would place an undue financial burden on the States.

The CHP suggested adding the expiration date, motive power, number of axles, unladen, gross or combined gross weight, branding (e.g. lemon law, prior police, prior taxi, warranty return, grey market), vehicle model, vehicle color and vehicle owner's contact information. Again, NHTSA is concerned that the additional burden on State DMVs would outweigh the safety benefit of gathering the requested additional information. It may be feasible that individual States wanting such information make that a part of their policy and administrative guidance.

D. Comments Regarding Guideline No. 6—Codes and Laws

Two comments were received. GHSA remarked that it is unnecessary for State Highway Safety Offices (SHSOs) to maintain a list of codes/laws and suggested elimination in future reauthorizations. NHTSA disagrees since it is necessary for SHSOs to be aware of codes and laws as they develop and evaluate safety programs. It serves the public benefit by having this information. Since the Governors Highway Safety Representative is designated by the Governor to maintain the highway safety program and administer the grant programs, they must be aware of how the individual State codes and laws comply (or not) with the grant programs. The MDT commented that they currently have an established process to address proposed changes. Requiring a SHSO to track information adds another burden to MDT's State safety staff and is a duplication of efforts by two different State agencies. NHTSA recognizes that this may be a potential burden, and allows existing systems of tracking to remain the same as long as they can continue to carry out the intent of this guideline.

E. Comments Regarding Guideline No. 13—Older Driver Safety

NHTSA received comments in response to the notice from several organizations or associations: AAA, Advocates for Highway and Auto Safety (Advocates), American Traffic Safety Services Association (ATSSA), California Police Chiefs Association (CPCA), Governors Highway Safety Association (GHSA), Maryland Motor Vehicle Administration (MD MVA), Montana Department of Transportation (MDT) National Transportation Safety Board (NTSB), New York State Office for the Aging (NYSOA), University of North Carolina (UNC), as well as from one individual.

General

AAA offered general support for the guidelines and provided two suggestions on the implementation of the guidelines. NHTSA agrees that implementation guidance is valuable, but determined that implementation guidance should not be included within the guideline. ATSSA generally supported the guideline, with emphasis on those related to roadway safety. Advocates recommended inserting language into the guideline to differentiate between the needs of urban and rural seniors. The agency recognizes that older people in rural and urban areas have different needs for transportation, and different challenges related to driving safety. However, because the guidelines are not meant to be prescriptive, this recommendation was not incorporated into the guidance. MD MVA was generally supportive, and provided research citations to support the aims of the guidance. MDT expressed concern that this guideline represents an unfunded mandate, and that States would be obligated to use highway safety funds to try to comply with the guidance. NHTSA disagrees with this comment. In FY 2012, the States received over $500 million to conduct highway safety programs. Congress included older driver safety among the topics that are allowed under the grant programs. If there is a documented and identified need, States may utilize this funding to develop and implement programs covered under the Highway Safety Guidelines.

NTSB was generally supportive, and recommended modification of the Model Minimum Uniform Crash Criteria (MMUCC) to include fields related to medical impairments as part of this guideline. Because this suggestion is beyond the scope of the highway safety program guidelines, no changes were made to the guidelines. One commenter expressed concern that vehicle design and collaboration with vehicle manufacturers was not included in the guidance. Improving vehicle design to enhance the safety of frail and fragile occupants is an important part of NHTSA's mission. However, this does not fall under the mission or authority of State highway safety offices, the primary audience for these guidelines, and therefore was not incorporated into the guideline.

I. Program Management

The agency received several comments concerning the Program Management section. ATSSA supported the section as written. NYSOA recommended that proven effectiveness of programs be considered and included within the program management structure. The agency agrees in the value of proven programs, but also recognizes that innovation happens at the State and local levels, and would not want to set limits on program development within this framework that may hinder innovation. Consequently, the agency made no changes to the guideline in response to this comment. However, NHTSA also encourages States to utilize evidence-based programs whenever possible, and recommends Countermeasures That Work (DOT HS 811 727) as a resource and guide. GHSA recommended that State DOT road and transit organizations be specifically identified as organizations with which highway safety offices should collaborate. The agency agreed that this was an important addition, and changed the guideline to reflect this recommendation.

II. Roadway Design for Older Driver Safety

Both ATSSA and NTSB supported this section as written. NYSOA suggested that the notion that roadways should be designed to specifically accommodate older drivers is flawed, and ignores the needs of all motorists. Because there is a wide body of research that shows how designs that help older drivers—such as larger traffic signs and dedicated left-turn lanes—also help other drivers, the guideline remains unchanged in response to this comment. GHSA expressed concern about the phrasing of portions of this section, specifically that it might give the incorrect expectation that highway funds could be used for program activities. The guideline language was amended to be more explicit in response to this comment.

III. Driver Licensing

One commenter expressed concern that a focus on older drivers in a licensing setting can be viewed as discriminatory, and thus may be reluctant to implement some of the guidance related to driver licensing. However, in elevating each recommendation to be included in the guideline, NHTSA assessed supporting and dissenting research. The resulting guidance provides flexibility—and the expectation—for individualized assessment of capabilities. It also supports the ability of States to exercise their responsibility to ensure public safety by looking more closely at a subset of the driving population who are at increased risk of crashing.

The bulk of the comments received were related to this section of the guideline. For clarity, the comments are grouped first by major element, then by general suggestions. The first topic that drew comments was the recommendation for in-person renewal. One individual and NYSOA disagreed with the recommendation that States require in-person renewal for drivers over a specified age. The individual was concerned with the potential for unintended negative consequences if more barriers to license renewal were enacted, such as injuries sustained in other modes of transport. NYSOA suggested that in-person renewal should be based on individual crash records, and that using age as a basis for actions by the driver licensing authority was “ageist.”

In recommending in-person renewal as part of the guideline, NHTSA considered all of these concerns. Research on in-person renewal requirements and other related policies has shown that these approaches have safety benefits. Using age as a determinant for requiring in-person renewal is reasonable because of the high correlation between age and the functional deficits that are related to increased crashes. Consequently, the guideline was not changed in response to these comments. MD MVA suggested the addition of language related to data analysis to support a State's decision on an in-person renewal policy, and provided an additional citation on relevant research (Soderstrom 2008). This recommendation was incorporated into the guideline.

The second topic that drew comments was the provision of immunity to medical providers who provide good-faith referrals to the driver licensing authority. MD MVA recommended the inclusion of the word “all” to the sentence on medical providers who make good-faith referrals, and NTSB suggested that medical providers in the emergency room and emergency medical technicians should also be explicitly included. Further, NTSB suggested the inclusion of criminal and administrative immunity (in addition to civil liability immunity) because the model law on the topic included those immunities. NHTSA agrees with these comments, and changes were made to the guidelines to reflect these recommendations.

The CPCA, NTSB, UNC and one individual suggested that other people also should be provided immunity for providing good-faith referrals. Because there is inadequate research to show a need for such immunity for audiences other than medical providers, NHTSA cannot support their explicit inclusion in the guidelines at this time. NYSOA recommended relocating the guidance on medical provider immunity to the section on medical providers. The action that necessitates immunity is the provision of potentially confidential information to the driver licensing authority. Because of this, the guideline was not changed to reflect that comment.

The CPCA and UNC recommended a broader discussion of restrictions to driver licenses, such as graduated licenses for older drivers. These comments were incorporated into the guideline.

The remaining comments on this section covered a range of topics. An individual expressed concern over whether the NHTSA and American Association of Motor Vehicle Administrators (AAMVA) policies were the best guidance available, and suggested consideration of American Medical Association (AMA) guidance for physicians. NHTSA sponsored the development of both sets of guidance. Because of this coordination, and the fact that AMA was also involved in the development of the AAMVA guidance, these documents complement each other and this suggestion is not incorporated into the guideline. The commenter also recommended that driver licensing data be made generally available to researchers. Because of the potential burden to State agencies, this was not included in the guidance; however, that would not preclude a State from making data available to researchers if they wished to do so. Finally, the commenter suggested that guidance related to DMVs communicating with medical providers was misplaced, and would be more appropriately located in the section of the guideline on medical providers. Because this would undermine the intent of the guideline in this section—to identify actions that DMVs should take—this change was not made. The CPCA suggested that States should set up safety-check locations for older drivers to determine whether it is still safe for them to drive. NHTSA is not aware of feasibility, reliability, or effectiveness research on models like that. The agency will need to conduct research on such programs before including them in the guideline. This recommendation was not incorporated into the guideline. MD MVA suggested that non-driver identification cards should be provided at low-cost or no charge if possible. Research has suggested that such an action would eliminate a potential barrier to driving cessation. This comment was incorporated into this section of the guideline.

IV. Medical Providers

One individual suggested that NHTSA specify the types of medical providers who should receive education related to safe driving among medically at-risk patients. Because any medical provider who interacts with patients has the potential to identify functional deficits and risk factors related to driving, it would not be beneficial from a public health perspective to limit the types of medical providers that are eligible for education on the topic. Consequently, the guideline was not changed to reflect this recommendation.

V. Law Enforcement

Two comments were related to this section of the guideline. NYSOA expressed concern over law enforcement officers' ability to identify medical risk. NHTSA agrees with this concern. Because of this, the agency has developed training tools related to unsafe driving and appropriate interactions with potentially-at-risk drivers. However, no changes were made to the guideline in response to this comment. Also, MD MVA provided citations for research supporting the value and effectiveness of law enforcement referrals to driver licensing authorities (Meuser, Carr & Ulfarsson, 2009; and Soderstrom, Scottino, Burch et al., 2010).

VI. Social and Aging Services Providers

There were two comments related to this section of the guideline. One person recommended that State Highway Safety Offices collaborate with localities on human services transportation. NYSOA recommended the explicit inclusion of strategies from the document “Countermeasures that Work” in the guidance. Both of these comments were incorporated into this section of the guideline.

VII. Communication Program

Two comments were submitted related to this section of the guideline. NYSOA expressed concern that there was not a suggestion that communities facilitate driver transitioning. NHTSA agrees with this comment, and believes it is addressed through the changes made to the section on Social and Aging Services Providers. NTSB suggested that families and friends should be explicitly included in communications and education efforts. NHTSA agrees with this. This suggestion was incorporated into Section VI of the guideline.

VIII. Program Evaluation and Data

There were two comments submitted on this section of the guideline. An individual recommended an emphasis on outcome evaluation, crash reduction in particular, rather than process evaluation and suggested that the guidelines emphasize additional data collection. NHTSA agrees that outcome evaluation is very important, but it is also important to collect a range of data—both outcome and process—to determine the effectiveness of a program. Further, the agency determined that process evaluation is a critical element within outcome evaluation in that one must determine the extent of program activities to determine whether they could have influenced the outcome. The agency did not change the guideline in response to this comment. NYSOA recommended that evaluation of educational programs should be specified. The agency agreed with this, and adjusted the guideline to reflect that recommendation.

F. Comments Regarding Guideline No. 16—Management of Highway Incidents (formerly Debris Hazard Control and Cleanup)

NHTSA received three comments on this guideline. CHP commented that Section I.B.2 deals with procedures to “certify” all rescue and salvage responders and equipment and the burden that would place on the State to develop a formal certification program. MDT also questioned the certification and standards. NHTSA agrees with these concerns. References to the certification process were removed from the guideline. GHSA pointed out that a prior Section 402 earmark for this program was eliminated years ago and this guideline creates expectations that Section 402 funds should now be used. They suggest elimination of this guideline. MDT believes the guideline places a burden on the State and all of the guidelines and requirements are outside the control and scope of the SHSO, making it difficult to verify implementation and evaluate and monitor the programs. NHTSA disagrees with GHSA and MDT on these issues. The guideline provides a formal structure used by the States to improve highway safety and serves as a public benefit. States have the flexibility to utilize Section 402 funds based on their greatest needs and where the funding would have the greatest impact.

G. Comments Regarding Guideline No. 18—Motor Vehicle Crash Investigation and Incident Reporting (formerly Accident Investigation and Reporting)

Four comments were received on this guideline. AAIA states the proposed guideline does not reflect the detailed depth of reporting necessary to aggregate data of real value. NHTSA disagrees with this comment since use of the Model Minimum Uniform Crash Criteria (MMUCC) data set provides the needed information for relevant crash data collection and analysis. They go on to comment that the MMUCC—Vehicle Data Elements contains the data set that would enable the aggregation of information relevant to understanding the value of PMVSI programs and should be the standard for crash investigation. NHTSA agrees with this observation and recognizes the need for uniformity and compatibility of data collected in Section A.4.a of the guideline: Use of uniform definitions and classifications as denoted in the Model Minimum Uniform Crash Criteria Guideline.

The AEPI urges NHTSA to include professional collision repairers in the listing of recommended representatives of crash investigation teams and does not support law enforcement (untrained) to estimate the value of damage. NHTSA disagrees with this recommendation. While the police crash report is useful to provide an estimate of the damage, a detailed analysis of damage is generally conducted at a repair facility by qualified technicians. There is no apparent value for an onsite collision repairer at crash scenes and investigations. The AEPI also commented that NHTSA does not require obtaining information pertaining to prior motor vehicle collisions and/or repairs to a vehicle in the data collected by the states during current crash investigations. It is their opinion that comparison of the crash data and prior claim information could identify methods of repair and/or parts used in the repair of most vehicles that are causing or contributing to motor vehicle crashes, injuries and deaths. NHTSA disagrees with this suggestion, since it is not within the scope of NHTSA's mission nor this guideline.

R&R Trucking commented that the lack of a standard accident report and the requirement to complete the accident report properly has a negative impact on carriers and drivers. NHTSA disagrees with this comment since each State has a uniform crash report that is adapted to their specific needs. Properly filling out a State uniform crash is the responsibility of the individual States.

References:

Christensen, P., Elvik, R. Effects on accidents of periodic motor vehicle inspection in Norway. Accid. Anal. Prev., 39 (2007) pp. 47-52. Accessed at http://dx.doi.org/10.1016/j.bbr.2011.03.031

Fosser, S. (1992). An Experimental Evaluation of the Effects of Period Motor Vehicle Inspection on Accident Rates. Accid. Anal. Prev, Vol. 24, No. 6 pp. 599-612.

Meuser TM, Carr DB, Ulfarsson GF: Motor-vehicle crash history and licensing outcomes for older drivers reported as medically impaired in Missouri. Accid. Anal. Prev 2009;41:246-252.

NHTSA (2008) National Motor Vehicle Crash Causation Survey Report to Congress. DOT HS 811 059. Washington, DC National Highway Traffic Safety Administration.

Soderstrom CA & Joyce JJ: Medical review of fitness to drive in older drivers: the Maryland Experience. Traffic Injury Prevention 2008;9:342-349.

Soderstrom, Scottino, Burch et al. 2010. Pursuit of Licensure by Senior Drivers Referred by Police to a State Licensing Agency's Medical Advisory Board. Ann Adv Automot Med. 2010;54:351-8.

Vlahos, N., Lawton S., Komanduri A., Popuri Y., and Gaines, D. 2009. Pennsylvania's Vehicle Safety Inspection Program Effectiveness Study Final Report. PA Department of Transportation Contract # 355101.

The guidelines published today also will appear on NHTSA's Web site in the Highway Safety Grant Management Manual in the near future. Guideline Nos. 1, 2, 6, 13, 16, and 18 are set forth below. The remaining guidelines are not addressed by today's action and remain unchanged.

Highway Safety Program Guideline No. 1

Periodic Motor Vehicle Inspection

Each State should have a program for periodic inspection of all registered vehicles to reduce the number of vehicles with existing or potential conditions that may contribute to crashes or increase the severity of crashes that do occur, and should require the owner to correct such conditions.

I. An inspection program would provide, at a minimum, that:

A. Every vehicle registered in the State is inspected at the time of initial registration and on a periodic basis thereafter as determined by the State based on evidence of the effectiveness of inspection programs.

B. The inspection is performed by competent personnel specifically trained to perform their duties and certified by the State.

C. The inspection covers systems, subsystems, and components having substantial relation to safe vehicle performance.

D. Each inspection station maintains records in a form specified by the State, which includes at least the following information:

• Class of vehicle.

• Date of inspection.

• Make of vehicle.

• Model year.

• Vehicle identification number.

• Defects by category.

• Identification of inspector.

• Mileage or odometer reading.

E. The State publishes summaries of records of all inspection stations at least annually, including tabulations by make and model of vehicle.

II. The program should be periodically evaluated by the State and the National Highway Traffic Safety Administration should be provided with an evaluation summary.

Highway Safety Program Guideline No. 2

Motor Vehicle Registration

Each State should have a motor vehicle registration program.

I. A model registration program would require that every vehicle operated on public highways is registered and that the following information is readily available for each vehicle:

• Make.

• Model year.

• Vehicle Identification Number.

• Type of body.

• License plate number.

• Name of current owner.

• Current address of owner.

• Registered gross laden weight of every commercial vehicle.

II. Each program should have a records system that provides at least the following services:

• Rapid entry of new data into the records or data system.

• Controls to eliminate unnecessary or unreasonable delay in obtaining data.

• Rapid audio or visual response upon receipt at the records station of any priority request for status of vehicle possession authorization.

• Data available for statistical compilation as needed by authorized sources.

• Identification and ownership of vehicle sought for enforcement or other operation needs.

III. This program should be periodically evaluated by the State and the National Highway Traffic Safety Administration should be provided with an evaluation summary.

Highway Safety Program Guideline No. 6

Codes and Laws

Each State should strive to achieve uniformity of traffic codes and laws throughout the State. The State Highway Safety Office should maintain a list of all relevant traffic codes and laws, and serve as a resource to State and local jurisdictions on any proposed changes.

Each State should utilize all available sources, such as Federal or State legislative databases or Web sites, to ensure that its traffic codes and laws reflect the most current evidence-based and peer-reviewed research.

Highway Safety Program Guideline No. 13

Older Driver Safety

Each State, in cooperation with its political subdivisions, tribal governments and other stakeholders, should develop and implement a comprehensive highway safety program, reflective of State demographics, to achieve a significant reduction in traffic crashes, fatalities, and injuries on public roads. The highway safety program should include a comprehensive older driver safety program that aims to reduce older driver crashes, fatalities, and injuries. To maximize benefits, each State older driver safety program should address driver licensing and medical review of at-risk drivers, medical and law enforcement education, roadway design, and collaboration with social services and transportation services providers. This guideline recommends the key components of a State older driver safety program, and criteria that the program components should meet.

In this guideline, there are recommendations regarding specific partner groups. However, it is likely that there are other State, local, and non-government organizations that could help in achieving goals related to older driver safety because their missions are related to the safe mobility of older people. When older people can no longer drive safely, their mobility needs are often met by alternative means such as ride programs or transit services. Federal highway safety funds can be used for highway safety purposes—which might include programs to facilitate older persons' decisions about when to stop driving by increasing awareness of other transportation options. However, NHTSA funds cannot be used to provide services—such as transit services—whose primary purpose is not to improve highway safety. For details on recommended practices, see Countermeasures that Work at (www.ghsa.org/html/publications/countermeasures.html ).

I. Program Management

Each State should have centralized data analysis and program planning, implementation, and coordination to identify the nature and extent of its older driver safety problems, to establish goals and objectives for the State's older driver safety program and to implement projects to reach the goals and objectives. State older driver programs should:

• Designate a lead organization for older driver safety;

• Develop resources;

• Collect and analyze data on older driver crashes, injuries, and fatalities;

• Identify and prioritize the State's older driver safety problems;

• Encourage and facilitate regular collaboration among agencies and organizations responsible for or impacted by older driver safety issues (e.g., Department of Transportation road and transit entities, State Unit on Aging, State Injury Prevention Director, State Office of EMS, Non-Governmental Organizations related to aging or aging-related diseases);

• Develop programs and specific projects to address identified problems;

• Coordinate older driver safety projects with other highway safety projects;

• Increase awareness of older driver transportation options, such as ride programs or transit services;

• Integrate older driver safety into the State strategic highway safety plans and other related activities, including impaired driving, occupant protection, and especially driver licensing programs; and

• Routinely evaluate older driver safety programs and services and use the results in program planning.

II. Roadway Design for Older Driver Safety

Traffic engineering and roadway design can challenge or ease a driver's mobility in any community. It is possible and desirable to accommodate normal aging through the application of design, operational, and traffic engineering countermeasures. The needs of older road users must be considered in new construction, as well as in spot improvements, to keep older drivers safe. The Federal Highway Administration (FHWA) has developed guidelines (http://safety.fhwa.dot.gov/older_users/) for accommodating older road users, and the guidelines need to be implemented on State and local roadways. Each State also has a process by which it seeks user input for its Strategic Highway Safety Plans. It is reasonable for State DOTs to collaborate and seek partnerships and planning/funding through other sources, such as the Highway Safety Plans, which come from the Highway Safety Office, or from the State Units on Aging, though it should be noted that there are strict limits on how funding from these sources may be used.

State DOTs should:

• Consider Older Driver safety as an emphasis area in the Strategic Highway Safety Plan (SHSP) if data analysis identifies this as an area of concern;

• Develop and implement a plan for deploying the guidelines and recommendations to accommodate older drivers and pedestrians; and

• Develop and implement a communications and educational plan for assisting local entities in the deployment of the guidelines and recommendations to accommodate older drivers and pedestrians.

III. Driver Licensing

Driver licensing is a critical element in the oversight of public safety as it relates to older drivers. The driver licensing authority (DMV) can legally restrict or suspend an individual's license, and for that reason, it is the primary audience for these recommendations. It is important that DMVs continue to make individualized determinations of fitness to drive—that is, determinations based on the review and assessment of individuals' capabilities to safely operate vehicles. However, it is reasonable for States to use age as a trigger for additional screening in execution of public safety roles and obligations. There are three areas within driver licensing that are important to driving safety: policies; practices; and, communications.

Recommended driver licensing policies that each State should implement to address older driver safety are:

• In-person renewal should be required of individual drivers over a specified age if the State determines through analysis of crash records that there is a problem with older driver crashes;

• Medical review policies should align with the Driver Fitness Medical Guidelines (Driver Fitness Medical Guidelines) published by NHTSA and the American Association of Motor Vehicle Administrators (AAMVA); and

• All medical and emergency medical service providers who provide a referral regarding a driver in good faith to the driver licensing authority should be provided immunity from civil, criminal, and administrative liability.

Recommended driver licensing practices that each State should implement to address older driver safety are:

• Consider licensing restrictions as a means of limiting the risks presented by individual drivers while allowing for the greatest autonomy possible;

• Establish a Medical Advisory Board (MAB), consisting of a range of medical professionals, to provide policy guidance to the driver licensing agency to implement;

• The medical review function of the DMV should include staff with medical expertise in the review of medically-referred drivers;

• The DMV should regularly conduct analyses and evaluation of the referrals that come through the medical review system to determine whether procedures are in place to appropriately detect and regulate at-risk drivers;

• Train DMV staff, including counter-staff, in the identification of medically at-risk drivers and the referral of those drivers for medical review; and

• Provide a simple, fast, and if possible, very low cost or free way for individuals to convert their driver licenses to identification cards.

To be effective in identification of medically at-risk drivers, the State should implement a communications program, through the DMV to:

• Make medical referral information and forms easy to find on the DMV Web site;

• Provide outreach to and training for medical providers (e.g., physicians, nurses, etc.) in making referrals of medically at-risk drivers and in finding resources on functional abilities and driving;

• Provide outreach to and training for law enforcement in successfully identifying medically at-risk drivers and in making referrals of medically at-risk drivers to the DMV; and

• Provide information on transportation options and community resources to drivers who are required to submit to medical review of their licenses.

IV. Medical Providers

State older driver safety programs rely on the identification of medically at-risk drivers by their medical providers, with the aim of limiting the impact of changes in functional abilities on the safe operation of a motor vehicle. Medical providers should know how to counsel the at-risk driver, and when confronted by a driver who refuses to heed advice to stop driving, to make a referral to the driver licensing authority. To facilitate this process, States should:

• Establish and implement a communications plan for reaching medical providers;

• Disseminate educational materials for medical providers. Providers should include physicians, nurses, occupational therapists, and other medical professionals who treat or deal with older people and/or their families;

• Facilitate the provision of Continuing Medical Education (CME) credits for medical providers in learning about driving safety; and

• Facilitate referrals of medically at-risk drivers to the driver licensing authority for review.

V. Law Enforcement

Law Enforcement plays an important role in identifying at-risk drivers on the road. States should ensure that State and local older driver safety programs include a law enforcement component. Essential elements of the law enforcement component include:

• A communications plan for reaching law enforcement officers with information on medically at-risk drivers;

• Training and education for law enforcement officers that includes emphasis on “writing the citation” for older violators, identifying the medically at-risk driver, and making referrals of the medically at-risk driver to the driver licensing authority; and

• An easy way for law enforcement officers who are in the field to make referrals of medically at-risk drivers to the driver licensing authority.

VI. Social and Aging Services Providers

At the State-level, there are agencies that are responsible for coordinating aging services. These agencies should be collaborating with the State DOT-Transit offices in the planning for and provision of transportation services for older residents. State Highway Safety Offices should:

• Collaborate with State Units on Aging and other social services providers on providing support related to older drivers who are transitioning from driving;

• Collaborate with State DOT-Transit offices and local planning organizations to provide information at the local level on how individuals can access transportation services for older people; and

• Develop joint communications strategies and messages related to driver transitioning.

• States are encouraged to review and use strategies outlined in Countermeasures That Work.

VII. Communication Program

States should develop and implement communication strategies directed at specific high-risk populations as identified by crash and population-based data. States should consider a range of audiences, including families and friends of at-risk drivers. Communications should highlight and support specific policies and programs underway in the States and communities. The programs and materials should be culturally-relevant, multi-lingual as necessary, and appropriate to the target audience. To achieve this, States should:

• Establish a working group of State and local agencies and organizations that have an interest in older driver safety and mobility with the goal of developing common message themes; and

• Focus the communication efforts on the support of the overall policy and program.

VIII. Program Evaluation and Data

Both problem identification and continual evaluation require effective record-keeping by State and local governments. The State should identify the frequency and types of older driver crashes. After problem identification is complete, the State can identify appropriate countermeasures. The State can promote effective evaluation by:

• Supporting detailed analyses of police accident reports involving older drivers;

• Encouraging, supporting, and training localities in process, impact, and outcome evaluation of local programs;

• Conducting and publicizing statewide surveys of public knowledge and attitudes about older driver safety;

• Evaluating the effectiveness of educational programs by measuring behavior and attitude changes;

• Evaluating the use of program resources and the effectiveness of existing countermeasures for the general public and high-risk populations;

• Ensuring that evaluation results are used to identify problems, plan new programs, and improve existing programs; and

• Maintaining awareness of trends in older driver crashes at the national level and how this might influence activities statewide.

Highway Safety Program Guideline No. 16

Management of Highway Incidents

Each State in cooperation with its political subdivisions should have a program which provides for rapid, orderly, and safe removal from the roadway of wreckage, spillage, and debris resulting from motor vehicle accidents, and for otherwise reducing the likelihood of secondary and chain-reaction collisions, and conditions hazardous to the public health and safety.

I. The program should provide at a minimum that:

A. Traffic Incident Management programs are effective and understood by emergency first responders.

B. Operational procedures are established and implemented to:

1. Define responsibilities of all first responders and classify all rescue and salvage responders and equipment;

2. Enable rescue and salvage equipment personnel to get to the scene of accidents rapidly and to operate effectively and safely on arrival—

a. On heavily traveled freeways and other limited access roads;

b. In other types of locations where wreckage or spillage of hazardous materials on or adjacent to highways endangers the public health and safety;

3. Extricate trapped persons from wreckage with reasonable care- to avoid injury or aggravating existing injuries;

4. Warn approaching drivers and detour them with reasonable care past hazardous wreckage or spillage;

5. Ensure safe handling of spillage or potential spillage of materials that are—

a. Radioactive

b. Flammable

c. Poisonous

d. Explosive

e. Otherwise hazardous; and

6. Expeditiously remove wreckage or spillage from roadways or otherwise ensure the resumption of safe, orderly traffic flow.

C. All rescue and salvage personnel are properly trained and retrained in the latest accident cleanup techniques.

D. An interoperable communications system is provided, adequately equipped and manned to provide coordinated efforts in incident detection and the notification, dispatch, and response of appropriate services.

II. The program should be periodically evaluated by the State to ensure adherence to the principles and concepts of the National Incident Management System using the Federal Highway Administration's Traffic Incident Management State Self-Assessment (http://ops.fhwa.dot.gov/eto_tim_pse/preparedness/tim/self.htm). The National Highway Traffic Safety Administration should be provided with an evaluation summary.

Highway Safety Program Guideline No. 18

Motor Vehicle Crash Investigation and Incident Reporting (Formerly Accident Investigation and Reporting)

Each State should have a highway safety program for the investigation and reporting of all motor vehicle crashes and incidents, and the associated deaths, injuries and reportable property damage that occur within the State.

I. A uniform, comprehensive crash investigation and incident reporting program would provide for gathering information—who, what, when, where, why, and how—on all motor vehicle crashes and incidents, and the associated deaths, injuries, and property damage within the State and entering the information into the traffic records system for use in planning, evaluating, and furthering highway safety program goals.

II. For the purpose of this guideline, the definitions adhere to D16.1-2007, the Manual on Classification of Motor Vehicle Traffic Accidents

III. (http://downloads.nsc.org/pdf/D16.1_Classification_Manual.pdf ).

IV. A model crash investigation and incident reporting program would be structured as follows:

A. Administration.

1. There should be a State agency having primary responsibility for the collection, storing, processing, administration and supervision of crash investigation and incident reporting information and for providing this information upon request to other user agencies.

2. At all levels of government, there should be adequate staffing (not necessarily limited to law enforcement officers) with the knowledge, skills and ability to conduct crash investigations and incident reporting and to process the collected information.

3. Procedures should be established to assure coordination, cooperation, and exchange of information among local, State, and Federal agencies having responsibility for the investigation of motor vehicle crashes and incidents, and processing of collected data.

4. Each State should establish procedures for entering crash investigation and incident information into the statewide traffic records system (established pursuant to Highway Safety Program Guideline No. 10 Traffic Records) and for assuring uniformity and compatibility of this data with the requirements of the system, including at a minimum:

a. Use of uniform definitions and classifications as denoted in the Model Minimum Uniform Crash Criteria Guideline (MMUCC) (http://www.mmucc.us); and

b. A guideline format for input of data into a statewide traffic records system.

B. Crash investigation and incident reporting. Each State should establish procedures that require the reporting of motor vehicle crashes and incidents to the responsible State agency within a reasonable time after the occurrence.

C. Driver reports.

1. In motor vehicle crashes involving only property damage, and where the motor vehicle can be safely driven away from the scene, the drivers of the motor vehicles involved should be required to submit a written report consistent with State reporting requirements, to the responsible State agency. A motor vehicle should be considered capable of being normally and safely driven if it does not require towing and can be operated under its own power, in its customary manner, without further damage or hazard to itself, other traffic elements, or the roadway. Each driver report should include, at a minimum, the following information relating to the crash:

a. Location

b. Date

c. Time

d. Identification of drivers

e. Identification of the owner

f. Identification of any pedestrians, passengers, and pedal-cyclists

g. Identification of the motor vehicles

h. Direction of travel of each motor vehicle involved

i. Other property involved

j. Environmental conditions existing at the time of the accident

k. A narrative description of the events and circumstances leading up to the time of the crash and immediately after the crash.

2. In all other motor vehicle crashes or incidents, the drivers of the motor vehicles involved should be required to immediately notify and report the motor vehicle crash or incident to the nearest law enforcement agency of the jurisdiction in which the motor vehicle crash or incident occurred. This includes, but is not limited to, motor vehicle crashes or incidents involving:

a. Fatal or nonfatal personal injury or

b. Damage to the extent that any motor vehicle involved cannot be driven under its own power, and therefore requires towing.

D. Motor vehicle crash investigation and incident reporting. Each State should establish a plan for motor vehicle crash investigation and incident reporting that meets the following criteria:

1. A law enforcement agency investigation should be conducted of all motor vehicle crashes and incidents identified in section III.C.2 of this guideline. Information collected should be consistent with the law enforcement mission of detecting and apprehending violators of any criminal or traffic statute, regulation or ordinance, and should include, as a minimum, the following:

a. Violation(s), if any occurred, cited by section and subsection, numbers and titles of the State code, that contributed to the motor vehicle crash or incident or for which the driver was arrested or cited.

b. Information supporting each of the elements of the offenses for which the driver was arrested or cited.

c. Information (collected in accordance with the program established under Highway Safety Program Guideline No. 15, Traffic Law Enforcement Services), relating to human, vehicular, and roadway factors causing individual motor vehicle crashes and incidents, injuries, and deaths, including failure to use seat belts.

2. Multidisciplinary motor vehicle crash investigation teams should be established, with representatives from appropriate interest areas, such as law enforcement, prosecutorial, traffic, highway and automotive engineering, medical, behavioral, and social sciences. Data gathered by each member of the investigation team should be consistent with the mission of the member's agency, and should be for the purpose of determining the causes of motor vehicle crashes, injuries, and deaths. These teams should conduct investigations of an appropriate sampling of motor vehicle crashes in which there were one or more of the following conditions:

a. Locations that have a similarity of design, traffic engineering characteristics, or environmental conditions, or that have a significantly large or disproportionate number of crashes.

b. Motor vehicles or motor vehicle parts that are involved in a significantly large or disproportionate number of motor vehicle crashes, or fatal or injury producing crashes or incidents.

c. Drivers, pedestrians, and motor vehicle occupants of a particular age, sex, or other grouping, who are involved in a significantly large or disproportionate number of fatal or injury producing motor vehicle crashes or incidents.

d. Motor vehicle crashes in which the causation or the resulting injuries and property damage are not readily explainable in terms of conditions or circumstances that prevailed.

e. Other factors tha t concern State and national emphasis programs.

V. Evaluation.

The program should be evaluated at least annually by the State. The National Highway Traffic Safety Administration should be provided with a copy of the evaluation.

Authority: 23 U.S.C. Section 402.

Issued in Washington, DC on November 25, 2013.
Jeff Michael,
Associate Administrator, Research and Program Development.

[FR Doc. 2013-28635 Filed 11-27-13; 8:45 am]

BILLING CODE 4910-59-P